SMALL BUSINESS ADMINISTRATION

Public Federal Regulatory Enforcement Fairness Roundtable; Region III Regulatory Fairness Board

The Small Business Administration Region III Regulatory Fairness Board and the SBA Office of the National Ombudsman will hold a Public Roundtable on Wednesday, April 17, 2002 at 1 p.m. at the Mezzanine, 405 Capitol Street, Charleston, West Virginia, to provide small business owners and representatives of trade associations with an opportunity to share information concerning the federal regulatory enforcement and compliance environment.

Anyone wishing to attend or to make a presentation must contact Stephen M. Glass in writing or by fax, in order to be put on the agenda. Stephen M. Glass, District Counsel for the U.S. Small Business Administration, West Virginia District Office, 320 West Pike Street, Suite 330, Clarksburg, WV 26301, phone 1 (800) 767-8052 press 8 for West Virginia and then ext. 229, fax (304) 623-0023, e-mail: stephen.glass@sba.gov.

For more information, see our Web site at www.sba.gov/ombudsman.

Dated: March 29, 2002.
Michael L. Barrera,
National Ombudsman.

[FR Doc. 02-8458 Filed 4-8-02; 8:45 am]

BILLING CODE 8025-01-P